DEPARTMENT OF THE INTERIOR

Bureau of Land Management

[LLORL00000.L18200000.XZ0000. LXSS020H0000.223.HAG 22-0003]

Notice of Public Meetings for the Southeast Oregon Resource Advisory Council

AGENCY: Bureau of Land Management, Interior.

ACTION: Notice of public meetings.

SUMMARY: In accordance with the Federal Land Policy and Management Act of 1976 and the Federal Advisory Committee Act of 1972, the U.S. Department of the Interior Bureau of Land Management's (BLM) Southeast Oregon Resource Advisory Council (RAC) will meet as follows.

DATES: The Southeast Oregon RAC will meet on Wednesday, January 19, 2022, from 1 p.m. to 5 p.m. Pacific Time (PT) and on Thursday, January 20, from 8 a.m. to 12 noon PT. The RAC will meet again on Wednesday, April 20, 2022, from 1 p.m. to 5 p.m. PT, and on Thursday, April 21, from 8 a.m. to 12 noon PT. A public comment period will be offered at the end of each day's meeting.

ADDRESSES: Both the January and April meetings will be held virtually through the Zoom meeting application. Participation information and the final agenda will be available 30 days in advance of the meeting and will be posted online at www.blm.gov/get-involved/resource-advisory-council/near-you/oregon-washington/southeast-oregon-rac.

Comments can be mailed to: BLM Lakeview District; Attn: Todd Forbes; 1301 South G Street; Lakeview, OR 97630. All comments received will be provided to the Southeast Oregon RAC members.

FOR FURTHER INFORMATION CONTACT: Lisa McNee, Public Affairs Specialist, 1301 South G Street, Lakeview, Oregon 97630; telephone: (541) 947-6811; email: lmcnee@blm.gov. Persons who use a telecommunications device for the deaf (TDD) may call the Federal Relay Service (FRS) at (800) 877-8339 to contact Lisa McNee during normal business hours. The FRS is available 24 hours a day, 7 days a week, to leave a message or question. You will receive a reply during normal business hours.

SUPPLEMENTARY INFORMATION: The Southeast Oregon RAC is chartered and the 15 members are appointed by the Secretary of the Interior. Their diverse perspectives are represented in commodity, non-commodity, and local interests. The RAC serves in an advisory capacity to BLM and U.S. Forest Service officials concerning planning and management of public land and national forest resources located, in whole or part, within the boundaries of the BLM's Vale Field Office of the Vale District, Burns District, Lakeview District, and Fremont-Winema and Malheur National Forests. All meetings are open to the public in their entirety. Information to be distributed to the RAC is requested before the start of each meeting.

Both the January and April meetings will include updates and opportunities for RAC input regarding the Southeast Oregon and Lakeview Resource Management Plan Amendment processes; discussion on rangeland and grazing, and wild horse and burro herd management areas; review of and/or recommendations regarding proposed actions by the Burns, Vale, or Lakeview BLM Districts; and any other business that may reasonably come before the RAC. At the January meeting, the RAC will have a discussion on commercial and dispersed recreation and opportunities for maintaining and enhancing public land access. Topics for the April meeting include discussions on programmatic environmental impact statements and categorical exclusions and how they relate to land management in eastern Oregon.

As noted earlier (see DATES), the public may address the Southeast Oregon RAC during the public comment portion of the meeting on January 19 and 20 and April 20 and 21, 2022. Depending on the number of persons wishing to speak, the time for individual comments may be limited.

Before including your address, phone number, email address, or other personal identifying information in your comments, please be aware that your entire comment—including your personal identifying information—may be made publicly available at any time. While you can ask us in your comment to withhold your personal identifying information from public review, we cannot guarantee we will be able to do so.

(Authority: 43 CFR 1784.4-2)

Angela Bulla,
Lakeview Deputy District Manager.

[FR Doc. 2021-26875 Filed 12-10-21; 8:45 am]

BILLING CODE 4310-33-P